DEPARTMENT OF COMMERCE

International Trade Administration

[A-583-863]

Forged Steel Fittings From Taiwan: Antidumping Duty Order

AGENCY: Enforcement and Compliance, International Trade Administration, Department of Commerce.

SUMMARY: Based on an affirmative final determination by the Department of Commerce (Commerce) and the International Trade Commission (the ITC), Commerce is issuing the antidumping duty order on forged steel fittings from Taiwan.

DATES: Applicable September 24, 2018.

FOR FURTHER INFORMATION CONTACT: Robert Palmer (202) 482-9068 or Suzanne Lam at (202) 482-0783, AD/CVD Operations, Enforcement and Compliance, International Trade Administration, U.S. Department of Commerce, 1401 Constitution Avenue NW, Washington, DC 20230.

SUPPLEMENTARY INFORMATION:

Background

In accordance with sections 735(d) and 777(i)(1) of the Tariff Act of 1930, as amended (the Act), and 19 CFR 351.210(c), on July 30, 2018, Commerce published its affirmative Final Determination in the less-than-fair-value (LTFV) investigation of forged steel fittings from Taiwan.¹ On September 14, 2018, the ITC notified Commerce of its affirmative determination that an industry in the United States is materially injured within the meaning of section 735(b)(1)(A)(i) of the Act, by reason of the LTFV imports of forged steel fittings from Taiwan.²

¹ See Forged Steel Fittings from Taiwan: Final Determination of Sales at Less Than Fair Value, 83 FR 36519 (July 30, 2018) (Final Determination).

² See Letter from the U.S. International Trade Commission, regarding Forged Steel Fittings from Taiwan, dated September 14, 2018 (ITC Notification).

Scope of the Order ³

³ See Memorandum to the File, “Placing Carbon Steel Butt Weld Pipe Fitting Scope Information Ruling on the Record,” dated concurrently with this notice.

The products covered by this scope are carbon and alloy forged steel fittings, whether unfinished (commonly known as blanks or rough forgings) or finished. Such fittings are made in a variety of shapes including, but not limited to, elbows, tees, crosses, laterals, couplings, reducers, caps, plugs, bushings, unions, and outlets. Forged steel fittings are covered regardless of end finish, whether threaded, socket-weld or other end connections.

While these fittings are generally manufactured to specifications ASME B16.11, MSS SP-79, MSS SP-83, MSS SP-97, ASTM A105, ASTM A350, and ASTM A182, the scope is not limited to fittings made to these specifications.

The term forged is an industry term used to describe a class of products included in applicable standards, and does not reference an exclusive manufacturing process. Forged steel fittings are not manufactured from casting. Pursuant to the applicable specifications, subject fittings may also be machined from bar stock or machined from seamless pipe and tube.

All types of fittings are included in the scope regardless of nominal pipe size (which may or may not be expressed in inches of nominal pipe size), pressure rating (usually, but not necessarily expressed in pounds of pressure/PSI, e.g., 2,000 or 2M; 3,000 or 3M; 6,000 or 6M; 9,000 or 9M), wall thickness, and whether or not heat treated.

Excluded from this scope are all fittings entirely made of stainless steel. Also excluded are flanges, butt weld fittings, butt weld outlets, nipples, and all fittings that have a maximum pressure rating of 300 pounds of pressure/PSI or less.

Also excluded are fittings certified or made to the following standards, so long as the fittings are not also manufactured to the specifications of ASME B16.11, MSS SP-79, MSS SP-83, MSS SP-97, ASTM A105, ASTM A350, and ASTM A182:

• American Petroleum Institute (API) API 5CT, API 5L, or API 11B

• Society of Automotive Engineering (SAE) SAE J476, SAE J514, SAE J516, SAE J517, SAE J518, SAE J1026, SAE J1231, SAE J1453, SAE J1926, J2044 or SAE AS 35411

• Underwriter's Laboratories (UL) certified electrical conduit fittings

• ASTM A153, A536, A576, or A865

• Casing Conductor Connectors 16-42 inches in diameter made to proprietary specifications

• Military Specification (MIL) MIL-C-4109F and MIL-F-3541

• International Organization for Standardization (ISO) ISO6150-B

To be excluded from the scope, products must have the appropriate standard or pressure markings and/or accompanied by documentation showing product compliance to the applicable standard or pressure, e.g., “API 5CT” mark and/or a mill certification report.

Subject carbon and alloy forged steel fittings are normally entered under Harmonized Tariff Schedule of the United States (HTSUS) 7307.99.1000, 7307.99.3000, 7307.99.5045, and 7307.99.5060. They also may be entered under HTSUS 7307.92.3010, 7307.92.3030, 7307.92.9000, and 7326.19.0010. The HTSUS subheadings and specifications are provided for convenience and customs purposes; the written description of the scope is dispositive.

Antidumping Duty Orders

As stated above, on September 14, 2018, in accordance with section 735(d) of the Act, the ITC notified Commerce of its final determination in this investigation, in which it found material injury with respect to forged steel fittings from Taiwan.⁴ Therefore, in accordance with section 735(c)(2) of the Act, we are issuing this antidumping duty order. Because the ITC determined that imports of forged steel fittings from Taiwan are materially injuring a U.S. industry, unliquidated entries of such merchandise from Taiwan entered, or withdrawn from warehouse for consumption, are subject to the assessment of antidumping duties.

⁴ See ITC Notification.

Therefore, in accordance with section 736(a)(1) of the Act, Commerce will direct U.S. Customs and Border Protection (CBP) to assess, upon further instruction by Commerce, antidumping duties equal to the amount by which the normal value of the merchandise exceeds the export price (or constructed export price) of the merchandise, for all relevant entries of forged steel fittings from Taiwan. Antidumping duties will be assessed on unliquidated entries of forged steel fittings from Taiwan entered, or withdrawn from warehouse for consumption, on or after May 17, 2018, the date of publication of the Preliminary Determination.⁵

⁵ See Forged Steel Fittings from Taiwan: Affirmative Preliminary Determination of Sales at Less Than Fair Value, 83 FR 22957 (May 17, 2018) (Preliminary Determination).

Continuation of Suspension of Liquidation

In accordance with section 735(c)(1)(B) of the Act, we will instruct CBP to continue to suspend liquidation on all relevant entries of forged steel fittings from Taiwan. These instructions suspending liquidation will remain in effect until further notice.

We will also instruct CBP to require cash deposits equal to the amounts as indicated below. Accordingly, effective on the date of publication of the ITC's final affirmative injury determination, CBP will require, at the same time as importers would normally deposit estimated duties on this subject merchandise, a cash deposit equal to the estimated weighted-average dumping margins listed below.⁶ The relevant all-others rate applies to all producers or exporters not specifically listed.

⁶ See section 736(a)(3) of the Act.

Provisional Measures

Section 733(d) of the Act states that instructions issued pursuant to an affirmative preliminary determination may not remain in effect for more than four months except where exporters representing a significant proportion of exports of the subject merchandise request Commerce to extend that four-month period to no more than six months. However, Commerce did not extend the four-month period in the underlying investigation. In the underlying investigation, Commerce published the Preliminary Determination on May 17, 2018. Thus, the four-month period beginning on the date of the publication of the Preliminary Determination ended on September 13, 2018. Furthermore, section 737(b) of the Act states that definitive duties are to begin on the date of publication of the ITC's final injury determination.

Therefore, in accordance with section 733(d) of the Act and our practice, we will instruct CBP to terminate the suspension of liquidation and to liquidate, without regard to antidumping duties, unliquidated entries of forged steel fittings from Taiwan entered, or withdrawn from warehouse for consumption, on or after September 14, 2018, the date the provisional measures expired, and through the day preceding the date of publication of the ITC's final injury determination in the Federal Register.

Estimated Dumping Margins

Commerce determines that the estimated final weighted-average dumping margins are as follows:

Exporter/producer | Weighted- average dumping margins (percent)
Both Well Steel Fittings Co., Ltd | 116.17
Luchu Shin Yee Works Co., Ltd | 116.17
All-Others | 116.17

Notification to Interested Parties

This notice constitutes the antidumping duty order with respect to forged steel fittings from Taiwan pursuant to section 736(a) of the Act. Interested parties can find a list of antidumping duty orders currently in effect at http://enforcement.trade.gov/stats/iastats1.html.

This order is published in accordance with section 736(a) of the Act and 19 CFR 351.211(b).

Dated: September 19, 2018.
Christian Marsh,
Deputy Assistant Secretary for Enforcement and Compliance.

[FR Doc. 2018-20797 Filed 9-21-18; 8:45 am]

BILLING CODE 3510-DS-P